ENVIRONMENTAL PROTECTION AGENCY

40 CFR Parts 87 and 1030

[EPA-HQ-OAR-2018-0276; FRL-10018-45-OAR]

RIN 2060-AT26

Control of Air Pollution From Airplanes and Airplane Engines: GHG Emission Standards and Test Procedures

Correction

In rule document 2020-28882, appearing on pages 2136-2174 in the issue of Monday, January 11, 2021, make the following correction:

§ 1030.20 [Corrected]

On page 2172, in the second column, on the seventeenth and eighteenth line from the bottom, “(2) Low gross mass: (0.45 * MTOM) + (0.63 * (MTOM−0.924)).” should read “(2) Low gross mass: (0.45 * MTOM) + (0.63 * (MTOM^0.924)).”

[FR Doc. C1-2020-28882 Filed 9-20-21; 8:45 am]

BILLING CODE 0099-10-D